DEPARTMENT OF HOMELAND SECURITY

Coast Guard

[Docket No. USCG-2020-0313]

National Maritime Security Advisory Committee

AGENCY: U.S. Coast Guard, Department of Homeland Security.

ACTION: Notice of Federal Advisory Committee teleconference meeting.

SUMMARY: The National Maritime Security Advisory Committee (Committee) will meet via teleconference, to review and discuss the Coast Guard's efforts to develop the Maritime Cyber Risk Analysis Model and updates to the Navigation and Vessel Inspection Circular 03-03. This teleconference will be open to the public.

DATES:

Meeting: The Committee will meet by teleconference on Wednesday, July 29, 2020 from 1:00 p.m. until 3:00 p.m. This teleconference may close early if all business is finished.

Comments and supporting documentation: To ensure your comments are received by Committee members before the teleconference, submit your written comments no later than July 15, 2020.

ADDRESSES: The teleconference will be broadcasted via a web enabled interactive online format and teleconference line. To participate via teleconference, dial 1-202-475-4000; the pass code to join is 812 197 73#. Additionally, if you would like to participate in this teleconference via the online web format, please log onto https://share.dhs.gov/nmsac/ and follow the online instructions to register for this meeting. If you encounter technical difficulties, contact Mr. Ryan Owens at (202)302-6565.

For information on services for individuals with disabilities, or to request special assistance, contact the individual listed in FOR FURTHER INFORMATION CONTACT below as soon as possible.

Instructions: You are free to submit comments at any time, including orally at the teleconference as time permits, but if you want Committee members to review your comment before the teleconference, please submit your comments no later than July 15, 2020. We are particularly interested in comments on the issues in the “Agenda” section below. We encouraged you to submit comments through Federal eRulemaking Portal at https://regulations.gov. If your material cannot be submitted using https://regulations.gov, call or email the individual in the FOR FURTHER INFORMATION CONTACT section of this document for alternate instructions. You must include the docket number [USCG-2020-0313]. Comments received will be posted without alteration at https://www.regulations.gov including any personal information provided. For more about privacy submissions in response to this document, see DHS's eRulemaking System Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, 2703 Martin Luther King Jr. Avenue SE, Washington, DC 20593, Stop 7581, Washington, DC 20593-7581; telephone 202-372-1108 or email ryan.f.owens@uscg.mil.

SUPPLEMENTARY INFORMATION: Notice of this meeting is in compliance with the Federal Advisory Committee Act, (5 U. S. C., Appendix 2). The National Maritime Security Advisory Committee operates under Section 70112 of the Maritime Transportation Security Act of 2002 (MTSA) (Pub. L. 107-295, November 25, 2002, as codified in 46 U.S.C. Chapter 701, 46 U.S.C. 70101 et seq.). This Committee will advise the Secretary of the Department of Homeland Security, via the Commandant of the U.S. Coast Guard, on matters relating to national maritime security, including on enhancing the sharing of information related to cybersecurity risks that may cause a transportation security incident, between relevant Federal agencies and State, local, and tribal governments; relevant public safety and emergency response agencies; relevant law enforcement and security organizations; maritime industry; port owners and operators; and terminal owners and operators

Agenda

(1) Call to Order.

(2) Opening Remarks.

(3) Maritime Cybersecurity Risk Analysis Model.

The Coast Guard is working on the Maritime Cyber Risk Analysis Model. As per the section 601 of the Frank LoBiondo Coast Guard Authorization Act of 2018 (CGAA18), Public Law 115-282, 132 Stat. 4192, the Committee will be tasked with reviewing the work to date and assisting the Coast Guard in further development of the model.

(4) Navigation and Vessel Inspection Circular Number 03-03, Change 3.

The Coast Guard is in the process of updating to Navigation and Vessel Inspection Circular Number 03-03, Change 2, Implementation Guidance for the Regulations Mandated by the Maritime Transportation Security Act of 2002 (MTSA) for Facilities. Change 3 will provide further clarity and guidance for the implementation of the maritime security regulations mandated by the MTSA as amended by the CGAA18 and the Security and Accountability for Every Port Act of 2006 (Pub. L. 109-347; 120 Stat. 1884).

(5) Public comment period.

(6) Closing Remarks.

(7) Adjournment of meeting.

A copy of all meeting documentation will be available at https://homeport.uscg.mil/NMSAC by July 15, 2020. Alternatively, you may contact Mr. Ryan Owens as noted in the FOR FURTHER INFORMATION section above.

There will be a public comment period at the end of the meeting. Speakers are requested to limit their comments to 3 minutes and keep their remarks to the topic of the Maritime Cyber Risk Analysis Model. Please note that the public comment period may end before the period allotted, following the last call for comments. Contact the individual listed in the FOR FURTHER INFORMATION CONTACT section above to register as a speaker.

Dated: June 24, 2020.
Wayne Arguin,
Captain, U.S. Coast Guard, Director of Inspections and Compliance.

[FR Doc. 2020-14571 Filed 7-6-20; 8:45 am]

BILLING CODE 9110-04-P